DEPARTMENT OF HEALTH AND HUMAN SERVICES

Indian Health Service

Office of Urban Indian Health Programs; Announcement Type: Meeting Notice

AGENCY: Indian Health Service, HHS.

ACTION: Meeting Notice.

SUMMARY: The purpose of this Notice is to announce an Indian Health Service (IHS) Listening Session on the draft Policy on Conferring with Urban Indian Organizations (UIOs). IHS will provide an opportunity for interested parties to provide oral comments on the draft Policy on Conferring with UIOs that was published in the Federal Register on July 26, 2012.

Name of Listening Session: IHS Urban Listening Session.

Type of Meeting: Open Listening Session.

DATES: January 22, 2013.

Time: 1 p.m. to 3 p.m. Eastern Time—Approximate end time.

ADDRESSES: The Listening Session will be held at: Indian Health Service Headquarters, 801 Thompson Avenue, Rhoades Conference Center, Reyes Building 4th floor, Rockville, MD 20852.

SUPPLEMENTARY INFORMATION: The link to the Federal Register is: https://www.federalregister.gov/articles/2012/07/26/2012-18300/draft-policy-on-conferring-with-urban-indian-organizations. Information about the Urban Indian health program and a registration link for this Listening Session are available on the IHS Web site: www.ihs.gov.

Cost: There is no cost to attend the Listening Session.

FOR FURTHER INFORMATION CONTACT: Ms. Phyllis Wolfe, Director, IHS Office of Urban Indian Health Programs. Phone: (301) 443-4680. Email: urbanconfer@ihs.gov.

Reasonable Accommodations: Individuals who require reasonable accommodations should submit a request to the Contact Person listed on this notice at least 1 day prior to the meeting.

Dated: January 7, 2013.
Yvette Roubideaux,
Director, Indian Health Service.

[FR Doc. 2013-00472 Filed 1-10-13; 8:45 am]

BILLING CODE 4165-16-P